DEPARTMENT OF TRANSPORTATION

Federal Aviation Administration

Notice of Release of Land Affecting Federal Grant Assurance Obligations at Salinas Municipal Airport, Salinas, Monterey County, California

AGENCY: Federal Aviation Administration, DOT.

ACTION: Notice of request to release airport land.

SUMMARY: The Federal Aviation Administration (FAA) is considering a proposal and invites public comment to change a portion of the airport from aeronautical use to non-aeronautical use at Salinas Municipal Airport (SNS), Salinas, Monterey County, California. The proposal consists of one parcel containing 13.25 acres of airport land, located outside of the airfield, south of Airport Boulevard, between Mercer Way and Skyway Boulevard, and north of Mortensen Avenue.

DATES: Comments must be received on or before July 8, 2020.

ADDRESSES: Comments on the request may be mailed or delivered to the FAA at the following address: Ms. Laurie J. Suttmeier, Manager, San Francisco Airports District Office, Federal Aviation Administration, 1000 Marina Boulevard, Suite 220, Brisbane, California, 94005-1835. In addition, one copy of the comment submitted to the FAA must be mailed or delivered to Mr. Brett J. Godown, Airport Manager, 30 Mortensen Avenue, Salinas, California 93905.

SUPPLEMENTARY INFORMATION: The land was originally acquired from the federal government as surplus land, via quitclaim deed issued by the War Assets Administration on February 4, 1949. The land will be leased for non-aeronautical revenue generation. Such use of the land represents a compatible land use that will not interfere with the airport or its operation, thereby protecting the interests of civil aviation. The airport will be compensated for the fair market value of the use of the land.

In accordance with the Wendell H. Ford Aviation Investment and Reform Act for the 21st Century (AIR 21), Public Law 106-181 (Apr. 5, 2000; 114 Stat. 75), this notice must be published in the Federal Register 30 days before the DOT Secretary may waive any condition imposed on a federally obligated airport by surplus property conveyance deeds or grant agreements.

Issued in El Segundo, California, on May 27, 2020.
Brian Q. Armstrong,
Manager, Safety and Standards Branch, Airports Division, Western-Pacific Region.

[FR Doc. 2020-12129 Filed 6-5-20; 8:45 am]

BILLING CODE 4910-13-P